ENVIRONMENTAL PROTECTION AGENCY

40 CFR Parts 50, 51, 52, 53, and 58

[EPA-HQ-OAR-2007-0492; FRL-9693-7]

RIN 2060-AO47

National Ambient Air Quality Standards for Particulate Matter; Correction

AGENCY: Environmental Protection Agency (EPA).

ACTION: Proposed rule; correction.

SUMMARY: In the Proposed Rules section of today's Federal Register, the EPA is proposing to revise the national ambient air quality standards (NAAQS) for particulate matter (PM). This action corrects a typographical error in one table contained in the preamble.

FOR FURTHER INFORMATION CONTACT: Questions concerning the “National Ambient Air Quality Standards for Particulate Matter” proposed rule should be addressed to Ms. Beth Hassett-Sipple, U.S. EPA, Office of Air Quality Planning and Standards, Health and Environmental Impacts Division, (C504-06), Research Triangle Park, NC 27711, telephone number (919) 541-4605, email hassett-sipple.beth@epa.gov. Questions related to the Regulatory Impact Analysis for the proposed revisions to the PM NAAQS should be addressed to Ms. Lillian Bradley, U.S. EPA, Office of Office of Air Quality Planning and Standards, Health and Environmental Impacts Division, (C439-02), Research Triangle Park, NC 27711, telephone number (919) 541-5694, email bradley.lillian@epa.gov.

SUPPLEMENTARY INFORMATION: In today's Federal Register, a proposed rule titled, “National Ambient Air Quality Standards for Particulate Matter,” with the same RIN as this correction (RIN 2060-AO47) was published. This correction corrects a typographical error in section X.A, Table 4 of the preamble. This correction will make a change to the summary of the potential costs and benefits of attaining several alternative PM2.5 standards as presented in the Regulatory Impact Analysis (RIA). In NAAQS rulemaking, the RIA is done for informational purposes only, and the proposed decisions announced in today's Federal Register are not in any way based on consideration of the information or analyses in the RIA. Specifically, the net benefits presented in Table 4 (3% discount rate) for alternative PM2.5 standard levels of 11/35 μg/m³ (annual and 24-hour standards) were incorrectly identified as $8,900 to $2300 million in the proposed rule. The correct estimates are $8,900 to $23,000 million. Table 4 is corrected to read as follows:

Table 4—Total Costs, Monetized Benefits and Net Benefits in 2020 ᵃ (Millions of 2006$) ᵇ Full Attainment
Alternate PM2.5 standards (annual/24-hour, in μg/m³) | Total costs: 3% Discount rate | Total costs: 7% Discount rate | Monetized benefits ᵇ: 3% Discount rate | Monetized benefits ᵇ: 7% Discount rate | Net benefits ᵇ: 3% Discount rate ᶜ | Net benefits ᵇ: 7% Discount rate
13/35 | $2.9 | $2.9 | $88 to $220 | $79 to $200 | $85 to $220 | $76 to $200
12/35 | 69 | 69 | 2,300 to $5,900 | 2,100 to $5,400 | 2,300 to $5,900 | 2,000 to $5,300
11/35 | 270 | 270 | 9,200 to $23,000 | 8,300 to $21,000 | 8,900 to $23,000 | 8,000 to $21,000
11/30 | 390 | 390 | 14,000 to $36,000 | 13,000 to $33,000 | 14,000 to $36,000 | 13,000 to $33,000
ᵃ Values are rounded to two significant figures. Using a 2010$ year increases estimated costs and benefits by approximately 8%.
ᵇ The reduction in premature deaths each year accounts for over 90% of total monetized benefits. Mortality risk valuation assumes discounting over the SAB-recommended 20-year segmented lag structure. Not all possible benefits or disbenefits are quantified and monetized in this analysis. B is the sum of all unquantified benefits. Data limitations prevented us from quantifying these endpoints, and as such, these benefits are inherently more uncertain than those benefits that we were able to quantify.
ᶜ Due to data limitations, we were unable to discount compliance costs for all sectors at 3%. As a result, the net benefit calculations at 3% were computed by subtracting the monetized benefits at 3% minus the costs at 7%.

Dated: June 25, 2012.
Gina McCarthy,
Assistant Administrator, Office of Air and Radiation.

[FR Doc. 2012-16044 Filed 6-28-12; 8:45 am]

BILLING CODE 6560-50-P